DEPARTMENT OF TRANSPORTATION

Office of the Secretary

Notice of Applications for Certificates of Public Convenience and Necessity and Foreign Air Carrier Permits Filed Under Subpart B (Formerly Subpart Q) During the Week Ending February 4, 2012

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0016.

Date Filed: January 30, 2012.

Due Date for Answers, Conforming Applications, or Motion to Modify Scope: February 21, 2012.

Description: Application of Helicopteros Dominicanos, S.A. requesting a foreign air carrier permit and exemption authority to engage in (i) charter foreign air transportation of persons and property between points in the Dominican Republic and points in the United States and beyond, with or without stopovers, and (ii) Fifth Freedom charter service pursuant to the prior approval requirements.

Docket Number: DOT-OST-2012-0017.

Date Filed: January 30, 2012.

Due Date for Answers, Conforming Applications, or Motion to Modify Scope: February 21, 2012.

Description: Application of Polskie Linie Lotnicze LOT S.A. (“LOT”) requesting an exemption and amended foreign air carrier permit authorizing LOT to engage in foreign air transportation to the full extent permitted by the United States-European Union Air Transport Agreement. More specifically, LOT requests authority to engage in: (a) Foreign scheduled and charter air transportation of persons, property, and mail from any point or points behind any Member State of the European Union, via any point or points in any Member State and via intermediate points to any point or points in the United States and beyond; (b) foreign scheduled and charter air transportation of persons, property, and mail between any point or points in the United States and any point or points in any member of the European Common Aviation Area; (c) other charters pursuant to the prior approval requirements; and (d) transportation authorized by any additional route rights made available to European Union carriers in the future.

Renee V. Wright,
Program Manager, Docket Operations, Federal Register Liaison.

[FR Doc. 2012-3493 Filed 2-15-12; 8:45 am]

BILLING CODE 4910-9X-P